DEPARTMENT OF HOUSING AND URBAN DEVELOPMENT

[Docket No. FR-5125-N-17]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ENERGY: Mr. John Watson, Department of Energy, Office of Engineering & Construction Management, ME-90, 1000 Independence Ave, SW., Washington, DC 20585: (202) 586-0072; GSA: Mr. John E.B. Smith, Deputy Assistant Commissioner, General Services Administration, Office of Property Disposal, 18th and F Street., NW., Washington, DC 20405; (202) 501-0084; INTERIOR: Mr. Michael C. Wright, Acquisition & Property Management, Department of the Interior, 1849 C Street, NW., MS2603, Washington, DC 20240; (202) 208-5399; NAVY: Mr. Warren Meekins, Associate Director, Department of the Navy, Real Estate Services, Naval Facilities Engineering Command, Washington Navy Yard, 1322 Patterson Ave., SE., Suite 1000, Washington, DC 20374-5065; (202) 685-9305; (These are not toll-free numbers).

Dated: April 19, 2007.
Mark R. Johnston,
Deputy Assistant Secretary for Special Needs.

Title V, Federal Surplus Property Program Federal Register Report for 04/27/2007

Suitable/Available Properties

Building

Texas

12 Offsite Residential Homes

Highway 83

Falcon Heights Co: Starr TX 78545

Landholding Agency: GSA

Property Number: 54200720004

Status: Surplus

GSA Number: 7-X-TX-1091-1A/L

Comments: 1130 sq. to 1400 sq. ft., off-site use only

Land

Utah

Jordanelle Reservoir

State Hwy 40

Wasatch UT

Landholding Agency: GSA

Property Number: 54200720005

Status: Surplus

GSA Number: 7-I-UT-0521

Comments: 3.78 acres, elongated, narrow strip

Summary for Suitable/Available Properties = Total number of Properties 13

Suitable/Unavailable Properties

Building

North Carolina

USCG Station Bldgs.

Cape Hatteras

Buxton Co: Dare NC

Landholding Agency: GSA

Property Number: 54200720002

Status: Excess

GSA Number: 4-U-ND-0747A

Comments: 5 bldgs./11 Other structures, contamination

Summary for Suitable/Unavailable Properties = Total number of Properties 1

Unsuitable Properties

Building

California

Utley House

Joshua Tree Natl Park

Yucca Valley CA 92284

Landholding Agency: Interior

Property Number: 61200720002

Status: Excess

Reasons: Extensive deterioration

Bldgs. PH284, PH339

Naval Base

Port Hueneme Co: Ventura CA 93043

Landholding Agency: Navy

Property Number: 77200720001

Status: Unutilized

Reasons: Secured Area, Extensive deterioration

Unsuitable Properties

Building

California

Bldgs. PH805, PH1179

Naval Base

Port Hueneme Co: Ventura CA 93043

Landholding Agency: Navy

Property Number: 77200720002

Status: Unutilized

Reasons: Secured Area, Extensive deterioration

Bldgs. PH1207, PH1264, PH1288

Naval Base

Port Hueneme Co: Ventura CA 93043

Landholding Agency: Navy

Property Number: 77200720003

Status: Unutilized

Reasons: Extensive deterioration, Secured Area

Bldgs. PM 3-53, PM129, PM402

Naval Base

Port Mugu Co: Ventura CA 93043

Landholding Agency: Navy

Property Number: 77200720004

Status: Unutilized

Reasons: Extensive deterioration, Secured Area

Unsuitable Properties

Building

California

Bldg. LP908

Naval Base

Laguna Peak

Port Mugu Co: Ventura CA 93043

Landholding Agency: Navy

Property Number: 77200720005

Status: Unutilized

Reasons: Extensive deterioration, Secured Area

Bldg. PM790

Naval Base

Oxnard CA 93043

Landholding Agency: Navy

Property Number: 77200720006

Status: Unutilized

Reasons: Extensive deterioration, Secured Area

Bldg. 53402

Marine Corps Base

Camp Pendleton CA 92055

Landholding Agency: Navy

Property Number: 77200720007

Status: Excess

Reasons: Extensive deterioration, Secured Area

Bldg. 307

Naval Base

San Diego CA

Landholding Agency: Navy

Property Number: 77200720009

Status: Excess

Reasons: Secured Area

Unsuitable Properties

Building

California

Bldg. 3135

Naval Base

San Diego CA

Landholding Agency: Navy

Property Number: 77200720010

Status: Excess

Reasons: Secured Area

Bldgs. 30727, 31409

Naval Air Weapons Station

China Lake CA 93555

Landholding Agency: Navy

Property Number: 77200720011

Status: Excess

Reasons: Secured Area

Bldgs. 60142, 60158

Naval Base Coronado

San Clemente Island CA

Landholding Agency: Navy

Property Number: 77200720012

Status: Unutilized

Reasons: Extensive deterioration, Not accessible by road

Bldgs. 60160, 60162, 60164

Naval Base Coronado

San Clemente Island CA

Landholding Agency: Navy

Property Number: 77200720013

Status: Unutilized

Reasons: Extensive deterioration

Unsuitable Properties

Building

California

Bldgs. 60203, 60210, 60211

Naval Base Coronado

San Clemente Island CA

Landholding Agency: Navy

Property Number: 77200720014

Status: Unutilized

Reasons: Extensive deterioration

Bldgs. 60214, 60215

Naval Base Coronado

San Clemente Island CA

Landholding Agency: Navy

Property Number: 77200720015

Status: Unutilized

Reasons: Extensive deterioration

Bldgs. 60227, 60243, 60250

Naval Base Coronado

San Clemente Island CA

Landholding Agency: Navy

Property Number: 77200720016

Status: Unutilized

Reasons: Extensive deterioration

Bldg. 60313

Naval Base Coronado

San Clemente Island CA

Landholding Agency: Navy

Property Number: 77200720017

Status: Unutilized

Reasons: Extensive deterioration

Unsuitable Properties

Building

California

Bldg. 404

Naval Air Station

North Island CA

Landholding Agency: Navy

Property Number: 77200720032

Status: Unutilized

Reasons: Extensive deterioration

South Carolina

Bldg. 200

Marine Corps Recruit Depot

Parris Island SC 29905

Landholding Agency: Navy

Property Number: 77200720018

Status: Unutilized

Reasons: Secured Area, Floodway

Tennessee

3 Bldgs.

Y-12 Natl Nuclear Security Complex

Oak Ridge TN 37831

Landholding Agency: Energy

Property Number: 41200720001

Status: Unutilized

Directions: 9104-01, 9104-02, 9104-03

Reasons: Secured Area

Unsuitable Properties

Building

Tennessee

Bldgs. 9720-03, 9720-06

Y-12 Natl Nuclear Security Complex

Oak Ridge TN 37831

Landholding Agency: Navy

Property Number: 77200720038

Status: Unutilized

Reasons: Secured Area

Utah

5 Bldgs.

Naval Industrial Ordinance Plant

Magna UT 84044

Landholding Agency: Navy

Property Number: 77200720033

Status: Unutilized

Directions: 4D, 6A, 6C, 8C, 10B

Reasons: Secured Area, Within 2000 ft. of flammable or explosive material

4 Bldgs.

Naval Industrial Ordinance Plant

Magna UT 84044

Landholding Agency: Navy

Property Number: 77200720034

Status: Unutilized

Directions: 11, 15, 16, 19

Reasons: Secured Area, Within 2000 ft. of flammable or explosive material

Unsuitable Properties

Building

Utah

Bldgs. 22A, 22B, 22C

Naval Industrial Ordinance Plant

Magna UT 84044

Landholding Agency: Navy

Property Number: 77200720035

Status: Unutilized

Reasons: Secured Area, Within 2000 ft. of flammable or explosive material

Bldgs. 23A, 23B, 23C

Naval Industrial Ordinance Plant

Magna UT 84044

Landholding Agency: Navy

Property Number: 77200720036

Status: Unutilized

Reasons: Secured Area, Within 2000 ft. of flammable or explosive material

4 Bldgs.

Naval Industrial Ordinance Plant

Magna UT 84044

Landholding Agency: Navy

Property Number: 77200720037

Status: Unutilized

Directions: 33, 45B, 45C, 46D

Reasons: Secured Area, Within 2000 ft. of flammable or explosive material

Unsuitable Properties

Building

Virginia

Bldg. 207

Naval Support Activity

Chesapeake VA

Landholding Agency: Navy

Property Number: 77200720019

Status: Excess

Reasons: Extensive deterioration, Secured Area

Garage

Naval Support Activity

Lafayette River Annex

Norfolk VA

Landholding Agency: Navy

Property Number: 77200720020

Status: Excess

Reasons: Extensive deterioration, Secured Area

Bldgs. SDA-202, SDA-203

Naval Support Activity

Norfolk VA 23551

Landholding Agency: Navy

Property Number: 77200720021

Status: Excess

Reasons: Extensive deterioration, Secured Area

Unsuitable Properties

Building

Virginia

Bldgs. Z101, Z103, Z107

Naval Station

Norfolk VA

Landholding Agency: Navy

Property Number: 77200720022

Status: Excess

Reasons: Secured Area, Extensive deterioration

Bldgs. LAG113, LAG114, LAG115

Naval Station

Norfolk VA

Landholding Agency: Navy

Property Number: 77200720023

Status: Excess

Reasons: Secured Area, Extensive deterioration

Bldg. CAD-RR

Naval Weapon Station

Yorktown VA

Landholding Agency: Navy

Property Number: 77200720024

Status: Excess

Reasons: Extensive deterioration, Secured Area

Bldgs. 25, 30, 99

Naval Weapon Station

Yorktown VA

Landholding Agency: Navy

Property Number: 77200720025

Status: Excess

Reasons: Extensive deterioration, Secured Area

Unsuitable Properties

Building

Virginia

Bldgs. 141, 142, 143

Naval Weapon Station

Yorktown VA

Landholding Agency: Navy

Property Number: 77200720026

Status: Excess

Reasons: Secured Area, Extensive deterioration

Bldgs. 144, 145, 146, 147

Naval Weapon Station

Yorktown VA

Landholding Agency: Navy

Property Number: 77200720027

Status: Excess

Reasons: Secured Area, Extensive deterioration

7 Bldgs.

Naval Weapon Station

Yorktown VA

Landholding Agency: Navy

Property Number: 77200720028

Status: Excess

Directions: 151, 152, 153, 154, 155, 156, 157

Reasons: Extensive deterioration, Secured Area

Unsuitable Properties

Building

Virginia

Bldgs. 406, 533, 724

Naval Weapon Station

Yorktown VA

Landholding Agency: Navy

Property Number: 77200720029

Status: Excess

Reasons: Secured Area, Extensive deterioration

Bldgs. 1748, 1749

Naval Weapon Station

Yorktown VA

Landholding Agency: Navy

Property Number: 77200720030

Status: Excess

Reasons: Extensive deterioration, Secured Area

Bldgs. 1981, 2018

Naval Weapon Station

Yorktown VA

Landholding Agency: Navy

Property Number: 77200720031

Status: Excess

Reasons: Extensive deterioration, Secured Area

Unsuitable Properties

Building

Washington

Bldg. 9470-0009

North Cascades Natl Park

Stehekin Co: Chelan WA

Landholding Agency: Interior

Property Number: 61200720003

Status: Unutilized

Reasons: Extensive deterioration

Land

Alaska

0.35 acre 2nd Ave/Mission St.

Kotzebue AK 99752

Landholding Agency: GSA

Property Number: 54200720001

Status: Excess

GSA Number: 9-D-AK-809

Reasons: Within 2000 ft. of flammable or explosive material

California

Sand Spit

Naval Base

Port Hueneme Co: Ventura CA 93043

Landholding Agency: Navy

Property Number: 77200720008

Status: Underutilized

Reasons: Floodway

Unsuitable Properties

Land

Colorado

0.04 acres

Vega Reservoir

Collbran CO 81624

Landholding Agency: Interior

Property Number: 61200720001

Status: Excess

Reasons: Other—right-of-way

North Dakota

Launch Control Facilities

Grand Forks AFB

Grand Forks ND

Landholding Agency: GSA

Property Number: 54200720003

Status: Surplus

GSA Number: 7-D-ND-0500

Reasons: Contamination

[FR Doc. E7-7812 Filed 4-26-07; 8:45 am]

BILLING CODE 4210-67-P